DEPARTMENT OF TRANSPORTATION

Office of the Secretary

Aviation Proceedings, Agreements Filed the Week Ending February 27, 2004

The following Agreements were filed with the Department of Transportation under the provisions of 49 U.S.C. Sections 412 and 414. Answers may be filed within 21 days after the filing of the application.

Docket Number: OST-2004-17175.

Date Filed: February 23, 2004.

Parties: Members of the International Air Transport Association.

Subject: Mail Vote 353, PTC3 0718 dated 24 February 2004, TC3 Special Amending Resolution 010k between Japan and China (excluding Hong Kong SAR and Macao SAR) r1-r9. Intended effective date: 28 March 2004.

Docket Number: OST-2004-17209.

Date Filed: February 26, 2004.

Parties: Members of the International Air Transport Association.

Subject: PTC2 EUR-AFR 0188 dated 27 February 2004, Expedited Resolution 002k-eba 5502Special Amending Resolution r1-r3. Intended effective date: 1 April 2004.

Andrea M. Jenkins,
Program Manager, Docket Operations, Federal Register Liaison.

[FR Doc. 04-5465 Filed 3-10-04; 8:45 am]

BILLING CODE 4910-62-P